DEPARTMENT OF TRANSPORTATION

Federal Railroad Administration

[Docket Number FRA-2016-0108]

Petition for Extension of Waiver of Compliance

Under part 211 of title 49 Code of Federal Regulations (CFR), this document provides the public notice that on April 29, 2022, Union Pacific Railroad (UPRR) petitioned the Federal Railroad Administration (FRA) to extend a waiver of compliance from certain provisions of the Federal railroad safety regulations contained at 49 CFR 236.566, Locomotive of each train operating in train stop, train control, or cab signal territory: Equipped. The relevant FRA Docket Number is FRA-2016-0108.

Specifically, UPRR requests a temporary extension of relief from § 236.566 to allow it to comply with a condition of FRA's decision letter dated April 6, 2022, primarily concerning Docket Number FRA-2021-0011.¹ The condition concerns slide detector fences, where existent, being fully integrated with positive train control (PTC) via wayside signal systems. UPRR states that four of its subdivision line segments (Portland, Evanston, Rawlins, and Laramie) require additional interconnections with PTC to be fully compliant with the condition in the April 6, 2022, letter. UPRR requests an extension of the relief in Docket Number FRA-2016-0108 for 12 months to complete the work, which consists of modifications to signaling appliances and the construction of communications infrastructure in some cases. Additionally, UPRR requests modification of two conditions of the June 9, 2020, decision letter in Docket Number FRA-2016-0108 ² to allow UPRR to immediately begin to decommission its locomotives' onboard automatic train control and automatic cab signal systems.

¹ See https://www.regulations.gov/document/FRA-2016-0108-0018.

² https://www.regulations.gov/document/FRA-2016-0108-0017.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by July 25, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-11372 Filed 5-25-22; 8:45 am]

BILLING CODE 4910-06-P